DEPARTMENT OF COMMERCE

Foreign-Trade Zones Board

[B-63-2014]

Foreign-Trade Zone (FTZ) 44—Morris County, New Jersey, Notification of Proposed Production Activity, Panasonic System Communications Company of North America, (Laptop Computers), Rockaway, New Jersey

The New Jersey Department of State, grantee of FTZ 44, submitted a notification of proposed production activity to the FTZ Board on behalf of Panasonic System Communications Company of North America (PSCNA), located in Rockaway, New Jersey. The notification conforming to the requirements of the regulations of the FTZ Board (15 CFR 400.22) was received on September 8, 2014.

The PSCNA facility is located within Subzone 44G. The facility is used for the assembly, customization, repackaging and distribution of laptop computers. Pursuant to 15 CFR 400.14(b), FTZ activity would be limited to the specific foreign-status materials and components and specific finished product described in the submitted notification (as described below) and subsequently authorized by the FTZ Board.

Production under FTZ procedures could exempt PSCNA from customs duty payments on the foreign status components used in export production. On its domestic sales, PSCNA would be able to choose the duty rates during customs entry procedures that apply to laptop computers (duty-free) for the foreign status inputs noted below. Customs duties also could possibly be deferred or reduced on foreign status production equipment.

The components and materials sourced from abroad include: Plastic labels and parts; leather laptop cases; packaging materials; paper and other labels; laptops; keyboards and laptop parts; laptop disk drives; data storage units; control and adaptor units; magnetic and optical readers; printed circuit assemblies; static converters (such as rectifiers); inductors for power supplies; printed circuit assemblies of electrical transformers, static converters and inductors; lithium-ion batteries; machines for the reception, conversion and transmission or regeneration of voice, images or other data, including switching and routing apparatus; apparatus for transmission or reception of voice, images or other data, including apparatus for communication in a wired or wireless network; cards incorporating a magnetic strip; recorded optical media; semiconductor media; solid-state non-volatile storage devices; television cameras; digital still image video cameras; radio navigational aid apparatus, other than radar; monitors, other than cathode-ray tube monitors; color video monitors with flat panel screens; antennas and antenna reflectors and parts; boards, panels, consoles, desks and cabinets equipped with apparatus for electric control, for a voltage not exceeding 1,000; mercury or sodium vapor discharge lamps; coaxial and Ethernet cables; camera lenses; and, testing and calibration equipment (duty rate ranges from duty-free to 5.8%).

Public comment is invited from interested parties. Submissions shall be addressed to the Board's Executive Secretary at the address below. The closing period for their receipt is October 28, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Elizabeth Whiteman at Elizabeth.Whiteman@trade.gov or (202) 482-0473.

Dated: September 10, 2014.
Andrew McGilvray,
Executive Secretary.

[FR Doc. 2014-22219 Filed 9-17-14; 8:45 am]

BILLING CODE 3510-DS-P